DEPARTMENT OF HEALTH AND HUMAN SERVICES

Administration for Children and Families

Submission for Office of Management and Budget (OMB) Review; ORR-3 and ORR-4 Report Forms for the Unaccompanied Refugee Minors Program (OMB #0970-0034)

AGENCY: Office of Refugee Resettlement, Administration for Children and Families, U.S. Department of Health and Human Services.

ACTION: Request for public comments.

SUMMARY: The Office of Refugee Resettlement (ORR) is requesting a 3-year extension of the ORR-3 and ORR-4 Report Forms (OMB #: 0970-0034, expiration 02/29/2024). There are very minimal changes requested to the report forms; ORR proposes minor revisions to the form instructions to improve clarity in certain sections and provide additional guidance for providers on how to assess youth functioning.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The ORR-3 Report is submitted within 30 days of the minor's initial placement in the state, within 60 days of a reportable change in the minor's case (e.g., change in legal responsibility, change in foster home placement, change in immigration data), and within 60 days of termination from the program. The ORR-4 Report is submitted every 12 months beginning on the first anniversary of the initial placement date, to record outcomes of the minor's progress.

Respondents: Unaccompanied Refugee Minors (URM) State Agencies, URM Provider Agencies, and youth participants.

URM State Agencies
Instrument | Total number of respondents | Total number of responses per respondent | Average burden hours per response | Total burden hours | Annual burden hours
ORR-3 URM Placement Report | 15 | 432 | 0.25 | 1,620 | 540
ORR-4 URM Outcomes Report | 15 | 282 | 0.50 | 2,115 | 705

Estimated Total Annual Burden Hours (URM State Agencies): 1,245.

URM Provider Agencies
Instrument | Total number of respondents | Total number of responses per respondent | Average burden hours per response | Total burden hours | Annual burden hours
ORR-3 URM Placement Report | 24 | 270 | 0.50 | 3,240 | 1,080
ORR-4 URM Outcomes Report | 24 | 162 | 1.0 | 3,888 | 1,296

Estimated Total Annual Burden Hours (URM Provider Agencies): 2,376.

Youth Participants
Instrument | Total number of respondents | Total number of responses per respondent | Average burden hours per response | Total burden hours | Annual burden hours
ORR-4 URM Outcomes Report | 1032 | 3 | 0.50 | 1,548 | 516

Estimated Total Annual Burden Hours (Youth Participants): 516.

Total Estimated Annual Burden Hours: 4,137.

Authority: 8 U.S.C. 1522(d).

Mary B. Jones,
ACF/OPRE Certifying Officer.

[FR Doc. 2023-22156 Filed 10-4-23; 8:45 am]

BILLING CODE 4184-89-P